DEPARTMENT OF JUSTICE

Antitrust Division

Notice Pursuant to the National Cooperative Research and Production Act of 1993—Interoperability Consortium, Inc.

Notice is hereby given that, on January 13, 2000, pursuant to section 6(a) of the National Cooperative Research and Production Act of 1993, 15 U.S.C. 4301 et seq. (“the Act”), Interoperability Consortium, Inc. has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are American Express Travel Related Services Company, Inc., New York, NY; and Visa International Services Association, Foster City, CA. The nature and objectives of the venture are to promote and accelerate the acceptance and use of the File Structure Specification of a Travel and Entertainment Multi-Application Smart Card as a worldwide open standard in the smart card industry and otherwise to promote and accelerate the creation of global interoperability for multiple application smart cards.

Constance K. Robinson,
Director of Operations, Antitrust Division.

[FR Doc. 00-15606 Filed 6-20-00; 8:45 am]

BILLING CODE 4410-11-M